NUCLEAR REGULATORY COMMISSION

[Docket No. 30-36974-ML, ASLBP No. 06-843-01-ML]

Pa'ina Hawaii, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Pa'ina Hawaii, LLC (Honolulu, Hawaii Irradiator Facility)

A Licensing Board is being established pursuant to a July 26, 2005 notice of opportunity for hearing, 70 FR 44,396 (Aug. 2, 2005), regarding the June 27, 2005 application of Pa'ina Hawaii, LLC, for authorization to build and operate a commercial pool-type industrial irradiator in Honolulu, Hawaii, near the Honolulu International Airport. This proceeding concerns an October 3, 2005 request for hearing regarding the application submitted by the Concerned Citizens of Honolulu.

The Board is comprised of the following administrative judges:

Thomas S. Moore, Chair, Atomic Safety and Licensing Board Panel, U.S. Nuclear Regulatory Commission, Washington, DC 20555-0001.

Dr. Paul B. Abramson, Atomic Safety and Licensing Board Panel, U.S. Nuclear Regulatory Commission, Washington, DC 20555-0001.

Dr. Anthony J. Baratta, Atomic Safety and Licensing Board Panel, U.S. Nuclear Regulatory Commission, Washington, DC 20555-0001.

All correspondence, documents, and other materials shall be filed with the administrative judges in accordance with 10 CFR 2.302.

Issued at Rockville, Maryland, this 13th day of October 2005.
G. Paul Bollwerk, III,
Chief Administrative Judge, Atomic Safety and Licensing Board Panel.

[FR Doc. E5-5751 Filed 10-18-05; 8:45 am]

BILLING CODE 7590-01-P